DEPARTMENT OF JUSTICE

Antitrust Division

Notice Pursuant to the National Cooperative Research and Production Act of 1993—Biopharmaceutical Manufacturing Preparedness Consortium

Notice is hereby given that, on January 5, 2024, pursuant to section 6(a) of the National Cooperative Research and Production Act of 1993, 15 U.S.C. 4301 et seq. (“the Act”), Biopharmaceutical Manufacturing Preparedness Consortium (“BIOMAP-CONSORTIUM”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to section 6(b) of the Act, the identities of the parties to the venture as of the date of this filing are: Advanced BioSciences Laboratory, Inc., Rockville, MD; Antheia, Inc., Menlo Park, CA; ApiJect Systems America, Inc., Stamford, CT; Applied Materials, Inc., Santa Clara, CA; CAMRIS International LLC, Bethesda, MD; Civica, Inc., Lehi, UT; Clarivate Analytics (US) LLC, Ann Arbor, MI; Ginkgo Bioworks, Inc., Boston, MA; Global Life Sciences Solutions USA LLC dba Cytiva, Marlborough, MA; Grand River Aseptic Manufacturing, Inc., Grand Rapids, MI; ImmunityBio, Inc., Culver City, CA; Joint Research and Development (JRAD) LLC, Stafford, VA; Maravai LifeSciences, San Diego, CA; Mission Pharmacal Company, San Antonio, TX; NextBeam LLC, North Sioux City, SD; Northeastern University, Boston, MA; OCUGEN, Inc., MALVERN, PA; Ocyon Bio PR, Inc., Aguadilla, PUERTO RICO; PSC Biotech Corp., Pomona, CA; Regis Technologies, Inc., Morton Grove, IL; Resilience Government Services, Alachua, FL; Riya Interactive, Inc., Chicago, IL; SEQENS, Devens, MA; Sanofi Pasteur, Inc., Swiftwater, PA; Slingshot Biosciences, Inc., Emeryville, CA; Smart World LLC dba Steri-Tek, Fremont, CA; TR Processing LLC, Golden Valley, MN; The Conafay Group, Washington, DC; USAntibiotics LLC, Bristol, TN; Varda Space Industries, Inc., El Segundo, CA.

Consistent with 15 U.S.C. 4301(a)(6)(C), (E) and (F), the general areas of BioMaP Consortium's planned activities are to engage the biopharmaceutical industrial base to enable targeted development expertise, address new and emerging biopharmaceutical technologies that enhance existing capabilities, as well as prepare for potential response to emerging pathogens with pandemic potential.

Suzanne Morris,
Deputy Director Civil Enforcement Operations, Antitrust Division.

[FR Doc. 2024-07947 Filed 4-15-24; 8:45 am]

BILLING CODE P